DEPARTMENT OF COMMERCE

National Oceanic and Atmospheric Administration

[RTID 0648-XE140]

Gulf of Mexico Fishery Management Council; Public Meeting

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a four-day meeting to consider actions affecting the Gulf of Mexico fisheries in the exclusive economic zone (EEZ).

DATES: The meeting will convene Monday, August 19 through Thursday, August 22, 2024. Daily schedule will be as follows: Monday, Wednesday, and Thursday, from 8:30 a.m. to 5 p.m., CDT. On Tuesday, August 20, the daily schedule will start at 8:30 a.m. and end at 5:30 p.m., CDT.

ADDRESSES:

Meeting address: The meeting will take place at the Golden Nugget Hotel and Casino, located at 151 Beach Boulevard, Biloxi, MS 39530.

If you prefer to “listen in”, you may access the log-on information by visiting our website at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, August 19, 2024; 8:30 a.m.-5 p.m., CDT

The meeting will begin in Full Council with the Induction of new and re-appointed Council Members. Committee Sessions will follow beginning with the Administrative/Budget Committee review and approval of the Final 2024 Funded Budget, review of Proposed Activities and Budget for 2025-2028 Funding Request and Status Update on Inflation Reduction Act Funding for the Regional Management Councils.

The Ecosystem Committee will receive a presentation on Modifications to the 2024 National Marine Fisheries Service (NMFS) Ecosystem-Based Fisheries Management Road Map (EBFM) and Ecosystem Technical Committee Recommendations and Comments. They will review Draft Comment Letter on Modifications to the 2024 EBFM and receive SSC Recommendations and Feedback on Essential Fish Habitat Contract Work.

The Sustainable Fisheries Committee will review the Research and Monitoring Priorities for 2025-2028 and Acceptable Biological Catch (ABC) Control Rule, including Scientific and Statistical Committee (SSC) Recommendations.

The Data Collection Committee will receive a presentation on Effort Validation Options in the New For-hire Data Collection Program and hold a discussion For-hire Data Collection Program.

The Shrimp Committee will review the Expenditures of the FY23 Funds for the Early Adopter Program for Shrimp Cellular Vessel Monitoring System (cVMS) and receive an update on the Early Adopter Program for Shrimp cVMS. The committee will receive an update on Shrimp Futures Project, recap of Southeast Shrimp Strategy and Planning Meeting and an update on Timing of Re-initiation of Section 7 Consultation.

Tuesday, August 20, 2024; 8:30 a.m.-5:30 p.m., CDT

The meeting will begin with a Litigation update. The Reef Fish Committee will convene to discuss Draft Options: Reef Fish Amendment 58: Management Measures for Shallow and Deepwater Grouper Complexes, Vision Statement for the Individual Fishing Quota (IFQ) Programs, Reef Fish Amendment 59: Requirements for Participation in Individual Fishing Quota Programs, Framework Action to Adjust Charter For-hire Buffer and Fishing Season for Red Snapper and the SSC Summary Report on recommendations and feedback on Recreational Seasonal Harvest Restrictions on Gag in the Gulf and Gulf Gray Triggerfish Ageing Contract Work.

The Full Council will reconvene in a CLOSED SESSION for selection of Special Shrimp Scientific and Statistical Committee Members for 2024-2027 Term and Appointment of Working Group Membership for the Recreational Initiative.

Wednesday, August 21, 2024; 8:30 a.m.-5 p.m., CDT

The Gulf SEDAR Committee will review SEDAR Assessment Process Changes and Model Complexity with SSC Recommendations. The committee will receive the SEDAR Steering Committee Summary Report from the July 2024 meeting and SSC Recommendations and Feedback on Management Strategy Evaluations Overview and RESTORE Project Update on Stock Assessment Projections.

The Council will reconvene at approximately 10:15 a.m., CDT with a Call to Order, Announcements and Introductions, Adoption of Agenda and Approval of Minutes.

The Council will receive presentations on Project Introduction and Review of Renewable Wind Energy (RWE) Fisheries Communications Plan, Update from Bureau of Ocean Energy Management (BOEM) on Wind Energy Development in the Gulf of Mexico and Mississippi Law Enforcement Efforts. Following lunch, the Council will hold public testimony beginning at 1:30 p.m. to 5 p.m., CDT for comments on Renewable Wind Energy Communications Plan from RWE and Status of the Coastal Migratory Pelagics Fisheries; and open testimony on other fishery issues or concerns. Public comment may begin earlier than 1:30 p.m. CDT but will not conclude before that time. Persons wishing to give public testimony in-person must register at the registration kiosk in the meeting room. Persons wishing to give public testimony virtually must sign up on the Council website on the day of public testimony. Registration for virtual testimony closes one hour (12:30 p.m. CDT) before public testimony begins.

Thursday, August 22, 2024; 8:30 a.m.-5 p.m., CDT

The Council will receive Committee reports from Administrative/Budget, Ecosystem, Data Collection, Shrimp, Sustainable Fisheries, Closed Session, Gulf SEDAR and Reef Fish Committees. The Council will receive updates from the following supporting agencies: South Atlantic Fishery Management Council Liaison; NOAA Office of Law Enforcement (OLE); Gulf States Marine Fisheries Commission; U.S. Coast Guard; U.S. Fish and Wildlife Service; and Department of State.

Lastly, the Council will hold a discussion on Council Planning and Primary Activities, Other Business, and hold an Election of Chair and Vice-Chair.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: July 23, 2024.
Rey Israel Marquez,
Acting Deputy Director, Office of Sustainable Fisheries, National Marine Fisheries Service.

[FR Doc. 2024-16565 Filed 7-26-24; 8:45 am]

BILLING CODE 3510-22-P